DEPARTMENT OF TRANSPORTATION

Federal Highway Administration

Environmental Impact Statement: Los Angeles County, CA

AGENCY: Federal Highway Administration (FHWA), DOT.

ACTION: Notice of intent.

SUMMARY: The FHWA, on behalf of the California Department of Transportation (Caltrans), is issuing this notice to advise the public that a Draft Environmental Impact Statement will be prepared for a proposed highway widening project on Interstate 5 in the cities of Santa Fe Springs, Commerce, Montebello, Downey, and East Los Angeles, in Los Angeles County, California.

FOR FURTHER INFORMATION CONTACT: Ronald Kosinski, Deputy District Director, Caltrans District 7, 100 S. Main Street, Los Angeles, CA 90012 (213) 897-0703.

SUPPLEMENTARY INFORMATION: Effective July 1, 2007, the Federal Highway Administration (FHWA) assigned, and the California Department of Transportation (Caltrans) assumed, environmental responsibilities for this project pursuant to 23 U.S.C. 327. Caltrans will prepare an Environmental Impact Statement on a proposal for constructing freeway improvements to Interstate 5 (I-5) from Interstate 605 (I-605) though the I-5/Interstate 710 (I-710) interchange in Los Angeles County, California. The project consists of widening I-5 to accommodate High Occupancy Vehicle (HOV) lanes and/or general purpose lanes. Depending on the alternative selected, the project may also include modifications to the I-605 and I-710 interchanges. A Major Investment Study (MIS) for the project was completed in July 1998. It identified a fully standard ten-lane, at-grade facility as the Locally Preferred Alternative (LPA).

The purpose of the proposed project is to (1) improve level of service during AM and PM peak periods, to reduce congestion related delays, and enhance safety and mobility in this segment of the I-5 freeway as compared to the no-build condition; (2) provide continuity of facilities and capacity on the I-5 freeway between the I-605 and I-710 in Los Angeles County; (3) maintain structural flexibility in the freeway corridor for additional future capacity improvements; (4) improve interchange access/egress points and levels of service; (5) improve access to regional transit and HOV facilities; (6) improve mobility on local surface streets operationally interdependent with the freeway corridor by reducing existing and future congestion on both the state and local facilities; and (7) explore Transportation System Management (TSM) improvements for the I-5 and parallel arterials.

Alternatives under consideration include (1) a no-build option; (2) implementing a Transportation System Management/Transportation Demand Management plan; (3) constructing a 10-lane facility with two HOV lanes; and (5) constructing a 12-lane facility (may be constructed in stages depending on availability of funding) with two or four HOV lanes. Alternatives that promote transit use, improve access to the Metro Gold Line Eastside Extension, and engineering designs that are compatible with the alternatives proposed for the I-710 Freeway (including the I-710 Mini-Study) are also important considerations.

These basic alternatives will have additional design variations, which provide optional lane use (general, HOV, or auxiliary use), optional on and off ramp modifications, and other engineering details. These alternatives may be refined, combined with various different alternative elements, or be removed from further consideration, as more analysis is conducted on the project alternatives.

The following permits would be required to construct the proposed project:

• Section 404 nationwide permit from the U.S. Army Corps of Engineers

• Section 401 Water Quality Certification from the California Regional Water Quality Control Board

• Section 1601 Streambed Alteration Agreement from the California Department of Fish and Game

• Encroachment permits from the various cities in which project construction would occur.

Letters describing the proposed action and soliciting comments will be sent to appropriate Federal, State, Participating Agencies, and local agencies, and to private organizations and citizens who have previously expressed or are known to have interest in this proposal. In addition, a public hearing will be held. Public notice will be given of the time and place of the meeting and hearing. The Environmental Impact Statement will be available for public and agency review and comment prior to the public hearing. A Public Scoping meeting is currently scheduled for February 27, 2008 in the City of Commerce.

To ensure that the full range of issues related to this proposed action are addressed and all significant issues identified, comments, and suggestions are invited from all interested parties. Comments or questions concerning this proposed action and the EIS should be directed to Caltrans at the address provided above.

(Catalog of Federal Domestic Assistance Program Number 20.205, Highway Planning and Construction. The regulations implementing Executive Order 12372 regarding intergovernmental consultation on Federal programs and activities apply to this program.)

Nancy Bobb,
Division Administrator, Federal Highway Administration, Sacramento, California.

[FR Doc. E8-3767 Filed 2-27-08; 8:45 am]

BILLING CODE 4910-22-P